DEPARTMENT OF TRANSPORTATION

Federal Aviation Administration

14 CFR Part 71

[Docket No. FAA-2021-0041; Airspace Docket No. 20-ANM-60]

RIN 2120-AA66

Amendment and Establishment of Class E Airspace; Baker City, OR

AGENCY: Federal Aviation Administration (FAA), DOT.

ACTION: Final rule.

SUMMARY: This action modifies the Class E airspace, designated as a surface area for Baker City Municipal Airport. This action also proposes to establish Class E airspace, designated as an extension to a Class D or Class E surface area. Additionally, this action modifies the Class E airspace extending upward from 700 feet above the surface. This action also removes the Baker City VORTAC from the Class E2 and the VOR/DME from the Class E5 text headers and airspace descriptions. Lastly, this action implements several administrative corrections to the airspaces' legal descriptions.

DATES: Effective 0901 UTC, August 12, 2021. The Director of the Federal Register approves this incorporation by reference action under 1 CFR part 51, subject to the annual revision of FAA Order 7400.11 and publication of conforming amendments.

ADDRESSES: FAA Order 7400.11E, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11E at NARA, email fedreg.legal@nara.gov or go to https://www.archives.gov/federal-register/cfr/ibr-locations.html.

FOR FURTHER INFORMATION CONTACT: Elizabeth Healy, Federal Aviation Administration, Western Service Center, Operations Support Group, 2200 S 216th Street, Des Moines, WA 98198; telephone (206) 231-2227.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class E airspace at Baker City Municipal Airport, Baker City, OR, to ensure the safety and management of IFR operations at the airport.

History

The FAA published a notice of proposed rulemaking in the Federal Register (86 FR 13244; March 8, 2021) for Docket No. FAA-2021-0041 to modify the Class E airspace at Baker City Municipal Airport, Baker City, OR. Interested parties were invited to participate in this rulemaking effort by submitting written comments on the proposal to the FAA. One non-substantive comment was received suggesting it would be helpful if a graphic was included with the proposed notice showing how the sectional chart will change.

Class E2, E4, and E5 airspace designations are published in paragraph 6002, 6004, and 6005 of FAA Order 7400.11E, dated July 21, 2020, and effective September 15, 2020, which is incorporated by reference in 14 CFR 71.1. The Class E airspace designation listed in this document will be published subsequently in the Order.

Availability and Summary of Documents for Incorporation by Reference

This document amends FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

The Rule

This amendment to 14 CFR part 71 modifies the Class E airspace designated as a surface area, at Baker City Municipal Airport. This area is designed to contain arriving IFR aircraft descending below 1,000 feet above the surface, and IFR departures until reaching 700 feet above the surface. This area is described as follows: That airspace extending upward from the surface within a 4.2-mile radius of the airport, and within 1.8 miles north and 3.1 miles south of the 097° bearing from the airport, extending from the 4.2-mile radius to 5.3 miles east of the airport, and within 1.8 miles southwest and 1.9 miles northeast of the 142° bearing from the airport, extending from the 4.2-mile radius to 9.4 miles southeast of the airport.

This action also modifies the Class E airspace by establishing an area that is designated as an extension to a Class D or Class E surface area. This area is designed to properly contain IFR aircraft descending below 1,000 feet above the surface. This area is described as follows: That airspace extending upward from the surface within 3.2 miles each side of the 332° bearing from the airport, extending from the 4.2-mile radius to 7.3 miles northwest of the airport.

This action also modifies the Class E airspace extending upward from 700 feet above the surface. This area is designed to properly contain IFR departures to 1,200 feet above the surface and IFR arrivals descending below 1,500 feet above the surface. This area is described as follows: That airspace extending upward from 700 feet above the surface within a 4.2-mile radius of the airport, and within 1.8 miles north and 4.5 miles south of the 097° bearing from the airport, extending from the 4.2-mile radius to 7.1 miles east of the airport, and within 1.8 miles southwest and 1.9 miles northeast of the 142° bearing from the airport, extending from the 4.2-mile radius to 11.7 miles east of the airport, and within 1.1 miles either side of the 283° bearing from the airport, extending from the 4.2 mile radius to 5.3 miles west of the airport, and within 1.8 miles northeast and 1.9 miles southwest of the 315° bearing from the airport, extending from the 4.2 mile radius to 6.9 miles northwest of the airport, and within 1.8 miles southwest and 3.3 miles northeast of the 322° bearing from the airport, extending from the 4.2 mile radius to 7.2 miles northwest of the airport, and within 1.8 miles east and 1.9 miles west of the 360° bearing from the airport, extending from the 4.2 mile radius to 8.8 miles north of the airport.

This action also removes the Baker VORTAC from the Class E2 text header and airspace description, and the Baker City VOR/DME from the Class E5 text header and airspace descriptions. The Navigational Aids (NAVAID) are not needed to describe the airspace areas. Removal of the NAVAIDs from the legal description allows the airspace to be described from a single point, which simplifies the airspaces' descriptions.

This action also removes the Class E airspace extending upward from 1,200 feet above the surface. This area is wholly contained within the Rome en route airspace area and duplication is not necessary.

Lastly, this action implements several administrative amendments to the airspaces' legal descriptions. The first line of the Class E2 header is not correct. To match the FAA database, the first line should be updated to “Baker City”. The airport's geographic coordinates in the Class E2, and Class E5 text header are incorrect. To match the FAA database, the geographic coordinates should be updated to lat. 44°50′14″ N, long. 117°48′33″ W.

FAA Order 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6002 Class E Airspace Areas Designated as Surface Areas.

* * * * *

ANM OR E2 Baker City, OR [Amended]

Baker City Municipal Airport, OR

(Lat. 44°50′14″ N, long. 117°48′33″)

That airspace extending upward from the surface within a 4.2-mile radius of the airport, and within 1.8 miles north and 3.1 miles south of the 097° bearing from the airport, extending from the 4.2-mile radius to 5.3 miles east of the airport, and within 1.8 miles southwest and 1.9 miles northeast of the 142° bearing from the airport, extending from the 4.2-mile radius to 9.4 miles southeast of the airport.

Paragraph 6004 Class E Airspace Areas Designated as an Extension to a Class D or Class E Surface Area.

* * * * *

ANM OR E4 Baker City, OR [New]

Baker City Municipal Airport, OR

(Lat. 44°50′14″ N, long. 117°48′33″)

That airspace extending upward from the surface within 3.2 miles each side of the 332° bearing from the airport, extending from the 4.2-mile radius to 7.3 miles northwest of the airport.

Paragraph 6005 Class E Airspace Areas Extending Upward From 700 Feet or More Above the Surface of the Earth.

* * * * *

ANM OR E5 Baker City, OR [Amended]

Baker City Municipal Airport, OR

(Lat. 44°50′14″ N, long. 117°48′33″)

That airspace extending upward from 700 feet above the surface within a 4.2-mile radius of the airport, and within 1.8 miles north and 4.5 miles south of the 097° bearing from the airport, extending from the 4.2-mile radius to 7.1 miles east of the airport, and within 1.8 miles southwest and 1.9 miles northeast of the 142° bearing from the airport, extending from the 4.2-mile radius to 11.7 miles east of the airport, and within 1.1 miles either side of the 283° bearing from the airport, extending from the 4.2 mile radius to 5.3 miles west of the airport, and within 1.8 miles northeast and 1.9 miles southwest of the 315° bearing from the airport, extending from the 4.2 mile radius to 6.9 miles northwest of the airport, and within 1.8 miles southwest and 3.3 miles northeast of the 322° bearing from the airport, extending from the 4.2 mile radius to 7.2 miles northwest of the airport, and within 1.8 miles east and 1.9 miles west of the 360° bearing from the airport, extending from the 4.2 mile radius to 8.8 miles north of the airport.

Issued in Des Moines, Washington, on May 20, 2021.
B.G. Chew,
Acting Group Manager, Operations Support Group, Western Service Center.

[FR Doc. 2021-11142 Filed 5-26-21; 8:45 am]

BILLING CODE 4910-13-P